DEPARTMENT OF COMMERCE

National Oceanic and Atmospheric Administration

RIN 0648-XF70

Magnuson-Stevens Act Provisions; General Provisions for Domestic Fisheries; Application for Exempted Fishing Permits

AGENCY: National Marine Fisheries Service (NMFS); National Oceanic and Atmospheric Administration (NOAA); Commerce.

ACTION: Notice; request for comments.

SUMMARY: The Assistant Regional Administrator for Sustainable Fisheries, Northeast Region, NMFS (Assistant Regional Administrator) has made a preliminary determination that the subject Exempted Fishing Permit (EFP) application from the University of New England (UNE) and the University of New Hampshire (UNH) that would allow Northeast multispecies vessels to possess spiny dogfish for a spiny dogfish life history study contains all the required information and warrants further consideration. The Assistant Regional Administrator has also made a preliminary determination that the activities authorized under the EFP would be consistent with the goals and objectives of the Spiny Dogfish Fishery Management Plan (FMP). However, further review and consultation may be necessary before a final determination is made.

DATES: Comments on this document must be received on or before April 2, 2008.

ADDRESSES: Comments may be submitted by e-mail to dogfish.efp@noaa.gov. Include in the subject line of the e-mail comment the following document identifier: “Comments on UNE dogfish possession EFP proposal.” Written comments should be sent to Patricia A. Kurkul, Regional Administrator, NMFS, Northeast Regional Office, 1 Blackburn Drive, Gloucester, MA 01930. Mark the outside of the envelope, “Comments on UNE dogfish possession EFP proposal.” Comments may also be sent via facsimile (fax) to (978) 281-9135.

FOR FURTHER INFORMATION CONTACT: Ryan Silva, Cooperative Research Program Specialist, phone: 978-281-9326, fax: 978-281-9135.

SUPPLEMENTARY INFORMATION: The FMP implemented a semi-annual quota. When a semi-annual quota is projected to be harvested, NMFS closes the fishery until the next semi-annual quota opens. During a dogfish closure, no vessel may fish for or possess dogfish. A dogfish closure is currently in effect through April 30, 2008.

As part of a continuing research project, UNE, in collaboration with the UNH, is investigating Gulf of Maine dogfish age and growth, and size at sexual maturity characteristics. The applicant states that current dogfish life history data need updating, particularly in light of recent stock declines and potential regional variability in life history traits. The project investigators are attempting to develop a more accurate aging tool, which would improve age and size at sexual maturity determinations. The applicant notes that these data would provide critical life history information needed for effective dogfish management decisions, particularly for the Gulf of Maine.

The applicant would collect at least 10 dogfish samples per month per sex, but not to exceed 50 dogfish per month. The applicant would require only partial samples from May, June, November, and December (maximum of 25 per month) to complete their monthly sample objectives. Therefore, the maximum number of dogfish landed under this EFP would not exceed 600 individuals.

Samples would be collected during commercial NE multispecies fishing trips in areas open to commercial NE multispecies regulations in statistical areas 125 and 132. Vessels would fish with otter trawl and gillnet gear that is fully compliant with NE multispecies regulations and adhere to the following conditions: Possess 50 or fewer dogfish per trip; all live dogfish bycatch would be returned to the ocean as quickly as possible; no dogfish may be landed for sale; dogfish would not be targeted during the fishing trips.

If approved, participating vessels would not be allowed to possess or retain more than 50 dogfish on any trip, and no dogfish may be sold.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: March 12, 2008.
Emily H. Menashes,
Acting Director, Office of Sustainable Fisheries, National Marine Fisheries Service.

[FR Doc. E8-5348 Filed 3-17-08; 8:45 am]

BILLING CODE 3510-22-S